ENVIRONMENTAL PROTECTION AGENCY

[ER-FRL-6665-8]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167. An explanation of the ratings assigned to draft environmental impact statements (EISs) was published in the Federal Register dated April 1, 2005 (70 FR 16815).

Draft EISs

EIS No. 20050192, ERP No. D-AFS-K65283-CA, Empire Vegetation Management Project, Reducing Fire Hazards, Harvesting of Trees Using Group-Selection (GS) and Individual Trees Selection (ITS) Methods, Mt. Hough Ranger District, Plumas National Forest, Plumas County, CA.

Summary: EPA expressed environmental concerns about cumulative impacts to air and water quality as a result of prescribed fire, mechanical harvesting, and road construction, and requested the final EIS include additional information on monitoring and maintenance of the desired conditions.

Rating EC2.

EIS No. 20050206, ERP No. D-SFW-E65074-NC, Roanoke River National Wildlife Refuge, Comprehensive Conservation Plan, To Determine and Evaluate a Range of Reasonable Management Alternatives, Bertie County, NC.

Summary: EPA supports the agency's Preferred Alternative 3, which maximizes wildlife-dependent uses of Refuge resources.

Rating LO.

EIS No. 20050210, ERP No. D-AFS-J65443-CO, Rock Creek Integrated Management Project, Propose Treatment to Address Mountain Beetle Epidemics, and to Reduce Wildfires within the Rock Creek Analysis Area, Medicine Bow-Routt National Forests and Thunder Basin National Grassland, Glenwood Springs Resource Area, Routt and Grand Counties, CO.

Summary: EPA expressed environmental concerns about on the potential for adverse impacts to impaired streams and already significantly impacted watersheds, and requested that the final EIS include a more definitive estimation of water quality impacts and specific mitigation for measures for watershed impacts.

Rating EC2.

EIS No. 20050211, ERP No. D-SFW-H65024-IA, Driftless Area National Wildlife Refuge Comprehensive Conservation Plan, To Recover and Conserve the Northern Monkshood and Iowa Pleistocene Snail, IA.

Summary: EPA has no objections to the proposed project.

Rating LO.

EIS No. 20050213, ERP No. D-FHW-F40432-MN, Trunk Highway 23 Improvements Project, From 0.25 Miles West of CSAH 6 in Kandiyohi County to 0.3 Miles Southwest of CSAH 123 Stearns County, City of Paynesville, Kandiyohi and Stearns Counties, MN.

Summary: EPA has environmental concerns about the proposed project's impacts to water quality and the drinking water supply, aquatic resources, wildlife habitat, wetlands, and sensitive noise receptors.

Rating EC2.

Final EISs

EIS No. 20050140, ERP No. F-FHW-K40250-NV, Boulder City/US 93 Corridor Transportation Improvements, Study Limits are between a western boundary on U.S. 95 in the City of Henderson and an eastern boundary on U.S. 93 west of downtown Boulder City, NPDES and U.S. Army COE Section 404 Permits Issuance and Right-of-Way Grant, Clark County, NV.

Summary: EPA continues to have environmental concerns about the proposed project's impacts to water, biological resources, and air quality, as well as invasive species issues.

EIS No. 20050155, ERP No. F-AFS-L65114-00, Plentybob Ecosystem Restoration Project, Restoration Activities Include: Prescribed Fire, Timber Harvest, Road Obliteration, Hardwood Planting and Noxious Weed Treatment, Implementation, Walla Walla Ranger District, Umatilla National Forest, Umatilla County, OR.

Summary: The Final EIS addressed EPA's request for additional information on air quality impacts from smoke. EPA has no objections to the proposed project.

EIS No. 20050237, ERP No. F-NOA-K91012-00, Bottomfish and Seamount Groundfish Fisheries Conservation and Management Plan, Implementation, US Economic Zone (EEZ) around the State of Hawaii, Territories of Samoa and Guam, Commonwealth of the Northern Mariana and various Islands and Atolls known as the U.S. Pacific remove Island areas, HI, GU and AS.

Summary: EPA continues to have concerns about potential impacts to the Hawaiian monk seal because the project no longer incorporate voluntary mitigation measures into the Fishery Management Plan or codified in regulations.

EIS No. 20050255, ERP No. F-BLM-A65175-00, Programmatic—Wind Energy Development Program, To Address Stewardship, Conservation and Resource Use on BLM-Administered Lands, Right-of-Way Grants, Western United States.

Summary: No formal comment letter was sent to the preparing agency.

EIS No. 20050271, ERP No. F-AFS-J65021-MT, Gallatin National Forest Noxious and Invasive Weed Control Project, To Prevent and Reduce Loss of Native Plant, Bozeman, Carbon, Madison, Gallatin, Meagher, Park, and Sweet Grass Counties, MT.

Summary: EPA has no objections to the proposed action and supports the integrated weed management program, emphasizing the need for adequate mitigation measures and monitoring to protect surface and ground waters and public health.

Dated: July 26, 2005.
Robert W. Hargrove,
Director, NEPA Compliance Division, Office of Federal Activities.

[FR Doc. 05-15049 Filed 7-28-05; 8:45 am]

BILLING CODE 6560-50-P